DEPARTMENT OF ENERGY

American Statistical Association Committee on Energy Statistics; Notice of Renewal

AGENCY: Department of Energy.

ACTION: Notice of renewal.

SUMMARY: Pursuant to the Federal Advisory Committee Act (Pub. L. 92-463), I hereby certify that the renewal of the charter of the American Statistical Association Committee on Energy Statistics is in the public interest in connection with the performance of duties imposed on the Department of Energy by law. This determination follows consultation with the Committee Management Secretariat of the General Services Administration, pursuant to section 102-3.60, title 41, Code of Federal Regulations.

FOR FURTHER INFORMATION CONTACT: Ms. Rachel M. Samuel at (202) 586-3279.

SUPPLEMENTARY INFORMATION: The purpose of the Committee is to provide advice on a continuing basis to the Administrator of the Energy Information Administration (EIA), including:

1. Periodic review of and advice on Energy Information Administration data collections and analysis programs;

2. Advice on technical and methodological issues in planning, operation, and the review of Energy Information Administration statistical programs and their relative priorities; and

3. Advice on matters concerning improved energy modeling and forecasting tools, particularly regarding their functioning, relevancy, and results.

Issued in Washington, DC, on October 18, 2002.
James N. Solit,
Advisory Committee Management Officer.

[FR Doc. 02-27329 Filed 10-25-02; 8:45 am]

BILLING CODE 6450-01-M